DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Master Address File (MAF) and Topographically Integrated Geographic Encoding and Referencing (TIGER) Updating Activities.

OMB Control Number: 0607-0809.

Form Number(s): Various.

Type of Request: Extension of a currently approved collection.

Burden Hours: 8,924.

Number of Respondents: 163,529.

Average Hours per Response: 3 minutes and 16 seconds.

Needs and Uses: The Census Bureau requests approval from the Office of Management and Budget (OMB) for an extension of the generic clearance for a number of activities it plans to conduct to update its Master Address File (MAF) and maintain the linkage between the MAF and the Topologically Integrated Geographic Encoding and Referencing (TIGER) database of address ranges and associated geographic information. The Census Bureau plans to use the MAF-TIGER database (MTdb) for post-Census 2010 evaluations, and as a sampling frame for the American Community Survey and our other demographic current surveys. The TIGER component of the MTdb is a geographic system that maps the entire country in Census Blocks with applicable address ranges or living quarter location information.

The generic clearance for the past three years has proved to be very beneficial to the Census Bureau. The generic clearance allowed us to utilize our limited resources on actual operational planning and development of procedures. The extension will be especially beneficial over the upcoming three years by enabling us to focus on the efforts to improve procedures for the future 2020 Census and to continue updating the MAF.

We will follow the protocol of past generic clearances: 30 days before the scheduled start date of each census activity, we will provide OMB with a detailed background on the activity, estimates of respondent burden and samples of pertinent forms. After the close of each fiscal year, we will also file a year-end summary report with OMB, presenting the results of each activity conducted.

The following sections describe the activities to be included under the clearance. The Census Bureau has conducted these activities (or similar ones) previously and the respondent burden remains relatively unchanged from one time to another.

Demographic Area Address Listing (DAAL)

The Demographic Area Address Listing (DAAL) program encompasses the geographic area updates for the Community Address Updating System (CAUS) and the area and group quarters frame listings for many ongoing demographic surveys (the Current Population Survey, the Consumer Expenditures Survey, etc.), and any other operations which choose to use the Automated Listing and mapping System (ALMI) for evaluations, assessments, or to collect updates for the MTdb. The CAUS program is designed to address quality concerns relating to areas with high concentrations of non-city-style addresses the MAF receives from the U.S. Postal Service's Delivery Sequence File. The ongoing demographic surveys, as part of the 2000 Sample Redesign Program, used the MAF as one of several sources of addresses from which they selected their samples. In fiscal year 2010, the DAAL operation accessed a job aid used in the 2010 Address Canvassing operation to identify units in small multi-unit structures. The DAAL program is a cooperative effort among many divisions at the Census Bureau; it includes automated listing software, systems, and procedures that will allow us to conduct listing operations in a dependent manner based on information contained in the MAF.

The DAAL operations will be conducted on an ongoing basis in potentially any county across the country. Field Representatives (FRs) will canvass selected Census 2010 tabulation blocks to improve the address list in areas where substantial address changes may have occurred that have not been added to the MAF through regular update operations, and/or in blocks in the area or group quarters frame sample for the demographic surveys. FRs will update existing address information, and, when necessary, contact individuals to collect accurate location and mailing address information. In general, contact will occur only when the FR is adding a unit to the address list, and/or the individual's address is not posted or visible to the FR. There is no pre-determined or scripted list of questions asked as part of this listing operation. If an address is not posted or visible to the FR, the FR will ask about the address of the structure, the mailing address, and, in some instances, the year the structure was built. If the occupants of these households are not at home, the FR may attempt to contact a neighbor to determine the best time to find the occupants at home and/or to obtain the correct address information. At group quarters, a facility manager is usually contacted to collect information concerning the facility.

DAAL is an ongoing operation. Listing assignments are distributed quarterly with the work conducted throughout the time period. We expect that DAAL listing operation will be conducted throughout the entire time period of the extension.

2020 Census Research and Testing Program

The 2020 Census Research and Testing program will conduct tests from FY 13 through FY 15 to research methodologies to improve the efficiency and effectiveness of the 2020 Census. Among the research is Test 22, a test that will mainly involve the newly developed MAF error model. The goal of the MAF error project is to determine the components of MAF error and to develop an error model for use in measuring MAF quality. The MAF error project will use data from existing programs as well as data from Test 22 to validate the recommended solution. Test 22 is currently scheduled to be conducted in fiscal year 2013.

The MAF error project is a cooperative effort among many divisions at the Census Bureau; it includes automated software, systems, and procedures that will allow us to measure the quality of the MAF. Test 22 is currently a one-time project scheduled for fiscal year 2013. Enumerators (Listers) will canvass blocks to provide complete list of residential addresses. Listers will update existing address information and, when necessary, contact individuals to collect accurate location and mailing address information. In general, contact will occur only when the Lister is adding a unit to the address list, and/or the individual's address is not posted or visible to the Lister. Subsequent analysis will determine the coverage of the address files, which will allow for the creation of coverage measures.

The listed activities are not exhaustive of all activities that may be performed under this generic clearance. We will follow the approved procedure when submitting any additional activities not specially listed here.

All activities described above directly support the Census Bureau's efforts to update the MAF and the TIGER database on a regular basis so that they will be available for use in conducting and evaluating statistical programs the Census Bureau undertakes on a monthly, annual or periodic basis.

Affected Public: Individuals or households.

Frequency: On occasion.

Respondent's Obligation: Mandatory.

Legal Authority: Title 13 U.S.C., Sections 141 and 193.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 12, 2013.
Glenna Mickelson,
Management Analyst, Office of the Chief Information Officer.

[FR Doc. 2013-05991 Filed 3-14-13; 8:45 am]

BILLING CODE 3510-07-P